DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 18, 2002.

Interested persons are invited to submit written comments regarding the subject matter of the investigations to the Director, Division of Trade Adjustment Assistance, at the address shown below, not later than July 18, 2002.

The petitions filed in this case are available for inspection at the Office of the Director, Division of Trade Adjustment Assistance, Employment and Training Administration, U.S. Department of Labor, Room C-5311, 200 Constitution Avenue NW., Washington, DC 20210.

Signed at Washington, DC this 17th day of June, 2002.
Edward A. Tomchick,
Director, Division of Trade Adjustment Assistance.

Appendix
[Petitions instituted on 06/17/2002]
TA-W | Subject firm (petitioners) | Location | Date of petition | Product(s)
45,645 | Clements Manufacturing (Comp) | Harbor Beach, MI | 05/15/2002 | Wire Harnesses.
45,646 | Trinity Industries (Wrks) | Beaumont, TX | 05/23/2002 | Freight.
45,647 | DuPont Co. (Wrks) | Niagara Falls, NY | 05/20/2002 | Polyethene Glycol.
45,648 | Breeze Industrial Product (Comp) | Saltsburg, PA | 05/13/2002 | Hose Clamps.
45,649 | Calument Steel Co (Wrks) | Chicago Heights, IL | 05/24/2002 | Bars.
45,650 | Gerber Childrenswear (Wrks) | Ballinger, TX | 06/03/2002 | Blanket Sleepers.
45,651 | Tyco Electronics Corp (Wrks) | Carlisle, PA | 01/24/2002 | Electroplated Components.
45,652 | Sagem, Inc. (Comp) | Greenville, SC | 05/27/2002 | Gas Injectors.
45,653 | La-Z-Boy East (IUE) | Florence, SC | 05/23/2002 | Recliner Chairs.
45,654 | Harry J. Price Textiles (Comp) | Lowell, NC | 05/15/2002 | Various Fabrics.
45,655 | BTA-Perfex (Wrks) | Butler, WI | 05/22/2002 | Industrial Heat and Pressure Vessels.
45,656 | Hancock Manufacturing Co (Wrks) | Toronto, OH | 05/29/2002 | Steel Stampings.
45,657 | Chevron Phillips Chemical (Wrks) | Orange, TX | 05/20/2002 | Polyethylene.
45,658 | TNS Mills/Gaffney Weaving (Wrks) | Gaffney, SC | 05/10/2002 | Cloth for Men's Apparel.
45,659 | Louisiana Uniform Ind. (Comp) | Delhi, LA | 05/17/2002 | Aprons, Vest, Doublets.
45,660 | Amspec Chemical Corp (Wrks) | Gloucester City, NJ | 03/06/2002 | Antmony Flame Retardants.
45,661 | Soilmec Branham, Inc. (Wrks) | Conroe, TX | 05/23/2002 | Oil Field Equipment.
45,662 | Cerro Copper Products (USWA) | St. Louis, MO | 05/07/2002 | Copper Tubes.
45,663 | Gold Toe Brands, Inc. (Comp) | Burlington, NC | 05/20/2002 | Socks.
45,664 | Alyeska Pipeling Service (Comp) | Anchorage, AK | 04/16/2002 | Crude Oils.
45,665 | Scotty's Fashions (UNITE) | Lewistown, PA | 05/30/2002 | Ladies Sportswear.
45,666 | P.S.M. Fastener Corp. (Wrks) | St. Louis, MO | 05/24/2002 | Metal Inserts.
45,667 | Mechanical Products (IAMAW) | Jackson, MI | 05/28/2002 | Circuit Breakers.
45,668 | Visiontek, LLC (Wrks) | Gurnee, IL | 05/08/2002 | Computer Graphic Accelerator Cards.
45,669 | Hankison International (USWA) | Washington, PA | 05/24/2002 | Compressed Air Dryers.
45,670 | Burlington Industries (Comp) | Graham, NC | 05/22/2002 | Furniture Upholstery.
45,671 | West Penn Hat and Cap (UNITE) | Creighton, PA | 05/14/2002 | Baseball Caps and Visors.
45,672 | VMV Enterprises, Inc. (IAMAW) | Paducah, KY | 05/29/2002 | Repairs & Locomotives, Traction Motors.
45,673 | Nichirin Coupler (Wrks) | El Paso, TX | 05/28/2002 | Transfering Machines.
45,674 | Kennametal Greenfield (Wrks) | Greenfield, MA | 05/14/2002 | Taps.
45,675 | Great Lakes Chemicals (Wrks) | Newport, TN | 05/10/2002 | Brominated Flame Retardant.
45,676 | Thomson Multimedia, Inc., (IAMAW) | Lancaster, PA | 05/24/2002 | Televisions.
45,677 | Ames True Temper (USWA) | Parkersburg, WV | 05/17/2002 | Lawn and Garden Tools.
45,678 | Pepperell Paper Co (PACE) | Pepperell, MA | 05/28/2002 | Colored Paper.
45,679 | NewSouth Apparel, LLC (Comp) | Brewton, AL | 06/07/2002 | Apparel.
45,680 | Goodyear Tire and Rubber (USWA) | Green, OH | 06/04/2002 | Rubber Air Springs.
45,681 | Farley's and Sathers (Wrks) | Pittston, PA | 05/14/2002 | Candy.
45,682 | Canon Business Machines (Comp) | Costa Mesa, CA | 05/14/2002 | Ink Jet Printers and Peripheral Products.
45,683 | International Comfort (IAMAW) | Lewisburg, TN | 05/20/2002 | Commercial Heating Ventilation.
45,684 | Supreme Tool and Die Co (Comp) | Fenton, MO | 05/22/2002 | Tooling.
45,685 | Dana Corporation (Comp) | Columbia City, IN | 06/10/2002 | Power Steering Assembly.
45,686 | Buehler Motor, Inc. (Comp) | Kinston, NC | 05/29/2002 | Sub-fractional HP Permanent Motors.
45,687 | Oxford of South Carolina (Comp) | Walhalla, SC | 05/31/2002 | Women's Apparel.
45,688 | Stork H and E Turbo (Wrks) | Ithaca, NY | 06/03/2002 | Gas and Steam Turbine Blades.

[FR Doc. 02-16975 Filed 7-5-02; 8:45 am]

BILLING CODE 4510-30-M